DEPARTMENT OF HOMELAND SECURITY

Coast Guard

33 CFR Part 117

[Docket No. USCG-2008-0478]

RIN 1625-AA09

Drawbridge Operation Regulation; LaLoutre Bayou, Yscloskey, LA

AGENCY: Coast Guard, DHS.

ACTION: Notice of proposed rulemaking; withdrawal.

SUMMARY: The Coast Guard is withdrawing its notice of proposed rulemaking concerning the operation of the State Route 46 (LA 46) Bridge across LaLoutre Bayou, mile 22.9, at Yscloskey, St. Bernard Parish, Louisiana.

DATES: The notice of proposed rulemaking is withdrawn on April 13, 2009.

ADDRESSES: The docket for this withdrawn rulemaking is available for inspection and copying at the Docket Management Facility (M-30), U.S. Department of Transportation, West Building Ground Floor, Room W12-140, 1200 New Jersey Avenue, SE., Washington, DC 20590, between 9 a.m. and 5 p.m., Monday through Friday, except Federal holidays. You may also find this docket on the Internet at http://www.regulations.gov.

FOR FURTHER INFORMATION CONTACT: If you have questions on this proposed rule, call Kay Wade, Bridge Administration Branch, telephone 504-671-2128. If you have questions on viewing or submitting material to the docket, call Renee V. Wright, Program Manager, Docket Operations, telephone 202-366-9826.

SUPPLEMENTARY INFORMATION:

Background

On June 25, 2008, we published a notice of proposed rulemaking entitled “Drawbridge Operation Regulation; LaLoutre Bayou, Yscloskey, LA” in the Federal Register (73 FR 35985). The rulemaking concerned the modification of the operation schedule of the draw to allow for the more efficient use of personnel by requiring a two-hour notice for nighttime openings.

Withdrawal

At the request of the Louisiana Department of Transportation and Development (LDOTD), the owner of the bridge, the notice of proposed rulemaking is being withdrawn as it has been determined that the present schedule of operation of the bridge provides for the needs of the public.

Authority

This action is taken under the authority of 33 U.S.C. 499; 33 CFR 1.05-1; Department of Homeland Security Delegation No. 0170.1.

Dated: March 26, 2009.
J.R. Whitehead,
Rear Admiral, U.S. Coast Guard, Commander, Eighth Coast Guard District.

[FR Doc. E9-8271 Filed 4-10-09; 8:45 am]

BILLING CODE 4910-15-P